DEPARTMENT OF ENERGY

Western Area Power Administration

Call for 2015 Resource Pool Applications

AGENCY: Western Area Power Administration, DOE.

ACTION: Notice of the Sierra Nevada Region's Call for 2015 Resource Pool Applications.

SUMMARY: The Western Area Power Administration (Western), a Federal power marketing administration of DOE, published its 2004 Power Marketing Plan (Marketing Plan) for the Sierra Nevada Customer Service Region (SNR) in the Federal Register on June 25, 1999, at 64 FR 34417. The Marketing Plan specifies the terms and conditions under which Western will market power from the Central Valley Project (CVP) and the Washoe Project beginning January 1, 2005, and continuing through December 31, 2024. With this Federal Register notice, Western is issuing a call for applications for SNR's 2015 Resource Pool.

Preference entities who wish to apply for a new allocation of power from Western's SNR must submit a formal application using the Applicant Profile Data (APD) form and must meet the Eligibility and Allocation Criteria described in the Marketing Plan, as revised (73 FR 79878 (2008)) and restated below. In addition, if a customer that currently has an allocation of power wishes to apply for a new allocation of power above and beyond its current allocation, it also must submit an application using the APD form and meet the revised Eligibility Criteria. In addition to the Eligibility Criteria, the Allocation and General Criteria and Contract Principles are defined in the Marketing Plan and also restated later in this Federal Register.

DATES: Entities interested in applying for an allocation of Western power must submit an application to Western's Sierra Nevada Customer Service Regional Office at the address below. Applications must be received by 4 p.m., PDT, on August 3, 2009. Applicants are encouraged to submit the APD form through electronic mail or to use certified mail. Applications will be accepted via regular mail through the U.S. Postal Service if postmarked at least 3 days before August 3, 2009, and received no later than August 5, 2009. Western will not consider applications that are not received by the prescribed dates. Western will publish a Notice of Proposed Allocations in the Federal Register after evaluating all applications.

ADDRESSES: Applications must be submitted to Ms. Sonja Anderson, Power Marketing Manager, Sierra Nevada Customer Service Region, Western Area Power Administration, 114 Parkshore Drive, Folsom, CA 95630. APD forms with an electronic signature may be electronically mailed to 2015RPApps@wapa.gov. If an entity submits an APD form electronically and an electronic signature is not available, the applicant must mail the signed APD form signature page to the address above, or scan the signed page and send it via electronic mail to 2015RPApps@wapa.gov.

FOR FURTHER INFORMATION CONTACT: Ms. Sonja Anderson, Power Marketing Manager, Sierra Nevada Customer Service Region, Western Area Power Administration, 114 Parkshore Drive, Folsom, CA 95630, (916) 353-4421, or by electronic mail at sanderso@wapa.gov.

SUPPLEMENTARY INFORMATION:

Background

The Marketing Plan provides for Western to offer up to 2 percent of SNR's marketable power resources available after 2014 to new and existing customers. On May 5, 2008, Western issued a notice in the Federal Register (73 FR 24592) seeking public comment on the exact size of the 2015 Resource Pool and a proposed modification to the Eligibility Criteria found in the Marketing Plan. Western held a public comment forum to accept verbal comments on the Proposed 2015 Resource Pool Size and Revised Eligibility Criteria on May 21, 2008. In addition, Western accepted written comments from the public through July 7, 2008. Western considered the comments received in developing the Final 2015 Resource Pool Size and Revised Eligibility Criteria published in the December 30, 2008, Federal Register (73 FR 79878). Through the 2015 Resource Pool Size and Revised Eligibility Criteria public process, it was determined that Western would offer exactly 2 percent of SNR's marketable power resources under the process in this Federal Register notice. Also, as discussed in the December 30, 2008, Federal Register (73 FR 79878), Western revised the Eligibility Criteria.

The Marketing Plan describes how SNR will market its power resources beginning January 1, 2005, through December 31, 2024. Western, at its discretion, will allocate a percentage of the 2015 Resource Pool to applicants that meet the Eligibility Criteria defined in the Marketing Plan as revised and restated below. This allocation percentage will be multiplied by the 2015 Resource Pool percentage to determine the applicant's percentage of the Base Resource as described in the Marketing Plan. Western will publish a Notice of Proposed Allocations in the Federal Register once those have been determined. The public will have an opportunity to comment on the Proposed Allocations. Once the final 2015 Resource Pool allocations have been determined and published, Western will work with the new allottees to develop a customized product to meet their needs as requested by such allottees and as more fully described in the Marketing Plan.

For ease of use, Western is restating herein the Eligibility, Allocation, and General Criterion and Contract Principles contained in its Marketing Plan (as revised by 73 FR 79878).

Eligibility Criteria

Western will apply the following Eligibility Criteria to all applicants seeking a resource pool allocation.

1. Applicants must meet the preference requirements of the Reclamation Law.

2. Applicants should be located within SNR's primary marketing area as defined in the Marketing Plan. If SNR's power resources are not fully subscribed, Western may market its resources outside the primary marketing area.

3. Applicants that require power for their own use must be ready, willing, and able to receive and use Federal power. Federal power shall not be resold to others.

4. Applicants that provide retail electric service must be ready, willing, and able to receive and use the Federal power to provide electric service to their customers, not for resale to others.

5. Applicants must submit an application in response to this Federal Register notice according to the procedures in the Dates section above.

6. Native American applicants must be an Indian tribe as defined in the Indian Self Determination Act of 1975 (25 U.S.C. 450b, as amended).

7. SNR will normally not allocate power to applicants with loads of less than 1 megawatt (MW); however, allocations to applicants with loads which are at least 500 kilowatts may be considered if the loads can be aggregated with other customers' and/or allottees' loads to schedule and deliver to a minimum load of 1 MW.

Allocation Criteria

Western will apply the following Allocation Criteria to all applicants receiving a resource pool allocation.

1. Allocations will be made in amounts determined solely by Western in exercise of its discretion under Reclamation Law and considered to be in the best interest of the United States Government.

2. Allocations will be based on the applicant's peak demand during the calendar year 2008 or the amount requested, whichever is less.

3. An allottee will have the right to purchase power from Western only upon execution of an electric service contract between Western and the allottee and satisfaction of all conditions in that contract.

4. Eligible Native American entities will receive greater consideration for an allocation of up to 65 percent of their peak load in calendar year 2008.

General Criteria and Contract Principles

Western will apply the following General Criteria and Contract Principles to all contracts executed under the Marketing Plan.

1. Electric service contracts shall be executed within 6 months of a contract offer unless otherwise agreed to in writing by Western.

2. Allocation percentages provided for in the Marketing Plan and the electric service contracts shall be subject to adjustment.

3. All power supplied by Western will be delivered pursuant to a scheduling arrangement.

4. All power will be provided on a take-or-pay basis. All costs associated with the products and services provided including costs associated with ancillary services, Custom Products, and transmission will be passed on to the customer(s) using the product or service.

5. Contracts shall require a written commitment to a percentage of the Base Resource on or before June 30, 2011, and the Custom Product on or before December 31, 2012. Western may extend the final commitment dates for the Base Resource or Custom Product.

6. Contracts will include a clause specifying criteria that customers must meet on a continuous basis to be eligible to receive electric service from Western.

7. Upon request, Western shall provide or assist each new and existing customer in obtaining transmission arrangements for delivery of power marketed under this Marketing Plan; nonetheless, each entity is ultimately responsible for obtaining its own delivery arrangements to its load. Transmission service over the CVP system will be provided in accordance with Section VII of the Marketing Plan.

8. Contracts shall provide for Western to furnish electric service effective January 1, 2015, through December 31, 2024.

9. Specific products and services may be provided for periods of time as agreed to in the electric service contract.

10. Contracts shall incorporate Western's standard provisions for electric service contracts, integrated resource plans, and General Power Contract Provisions as determined by Western.

11. Contracts will include a clause that allows Western to reduce or rescind a customer's allocation percentage, upon 90-days notice, if Western determines that (1) the customer is not using this power to serve its own loads, except as otherwise specified in Section III of the Marketing Plan or (2) the allocation amounts are consistently greater than the customer's maximum peak load.

12. Any power not under contract may be allocated at any time at Western's sole discretion or sold as deemed appropriate by Western.

13. Contracts may include a clause providing for alternative funding arrangements including net billing, bill crediting, reimbursable financing, and advance payment.

Call for 2015 Resource Pool Applications:

Applications for Power

This Federal Register notice formally requests applications from qualified preference entities wishing to purchase power from SNR. An application is made by submitting the APD form so Western will have a uniform basis upon which to evaluate the applications. To be considered, applicants must submit a completed APD application form by the deadline specified in the Dates section above. To ensure full consideration is given to all applicants, Western will not consider requests for power or applications submitted before publication of this Federal Register notice or after the deadlines specified in the Dates section.

Applicant Profile Data

The APD form below is approved by the Office of Management and Budget under Control No. 1910-5136. APD forms are available on Western's web page at http://www.wapa.gov/sn/marketing/2015ResourcePool.asp or by request to the person listed in the FOR FURTHER INFORMATION CONTACT section above. Applicants are encouraged to use the APD form provided on the Web site.

Please provide all information requested on the APD form. Please indicate if the requested information is not applicable or available. Western will request, in writing, additional information from any applicant whose application is deficient. The applicant will have 10 business days from the postmark date on Western's request to provide the information. In the event an applicant fails to provide sufficient information to allow Western to make a determination regarding eligibility, the application will not be considered.

All items of information in the APD form should be answered as if prepared by the entity/organization seeking the allocation of Federal power.

Applicant Profile Data Form

1. Applicant Information. Please provide the following:

a. Applicant's (entity/organization requesting an allocation) name and address:

Applicant's Name: |
Address: |
City: |
State: |
Zip: |

b. Person(s) representing applicant:

Contact Person (Name & Title): |
Address: |
City: |
State: |
Zip: |
Telephone: |
Fax: |
E-mail Address: |

c. Type of entity/organization:

☐ Federal Agency

☐ Irrigation/Water District

☐ Municipality

☐ Native American Tribe

☐ Public Utility District

☐ Rural Electric Cooperative

☐ State Agency

☐ Other, please specify

d. Parent entity/organization of applicant, if any:

e. Name of the applicant's member organizations, if any: (Separated by commas)

f. Applicable law under which the applicant was established:

g. Applicant's geographic service area (if available, please submit a map of the service area and indicate the date prepared):

h. Provide the date the applicant attained utility status, if applicable. 10 CFR 905.35 defines utility status to mean “that the entity has responsibility to meet load growth, has a distribution system, and is ready, willing, and able to purchase power from Western on a wholesale basis for resale to retail customers.”:

i. Describe the entity/organization that will interact with Western on contract and billing matters:

2. Applicant's Loads:

a. If applicable, provide the number and type of customers served (e.g., residential, commercial, industrial, military base, agricultural):

Customer Type and Number
| Residential | Commercial | Industrial | Military | Agriculture | Other
Number of customers |  |  |  |  |  |
If not applicable, explain why: |  |  |  |  |  |

b. Provide the actual monthly maximum demand (kilowatts) and energy use (kilowatt-hours) experienced in calendar year 2008:

Calendar Year 2008
| January | February | March | April | May | June
Demand (kilowatts) |  |  |  |  |  |
Energy (kilowatt-hours) |  |  |  |  |  |

| July | August | September | October | November | December
Demand (kilowatts) |  |  |  |  |  |
Energy (kilowatt-hours) |  |  |  |  |  |

c. Describe any factors or conditions which may significantly change peak demands or load duration or profile curves in the next 5 years:

3. Applicant's Resources. Please provide the following information:

a. A list of current power supplies, if applicable, including the applicant's own generation as well as purchases from others. For each supply, provide the resource name, capacity supplied, and the resource's location:

b. For each power supplier, provide a description and status of the power supply contract (including the termination date):

c. For each power supplier, provide the types of power:

☐ Power supply is on a firm basis.

☐ Power supply is not on a firm basis. Please explain:

4. Transmission:

a. Points of delivery—Provide the requested point(s) of delivery on Western's transmission system (or a third party's transmission system), the voltage of service required, and the capacity desired, if applicable:

b. Transmission arrangements—Describe the transmission arrangements necessary to deliver firm power to the requested points of delivery. Include a brief description of the applicant's transmission and distribution system including major interconnections. Provide a single-line drawing of applicant's system if one is available:

c. Describe whether the applicant owns and operates its own electric utility system or applicant's ability to receive and use Federal power as of January 1, 2014:

5. Other Information:

The applicant may provide any other information pertinent to receiving an allocation:

6. Signature:

By signing below, I certify the information which I have provided is true and correct to the best of my information, knowledge and belief. Electronically submitted applications must contain an electronic signature, or in the alternative, the signature page with a signature should be mailed via the U.S. Postal Service or mailed electronically to 2015RPApps@wapa.gov.

Western requires the signature and title of an appropriate official who is able to attest to the validity of the APD and who is authorized to submit the request for an allocation.

Signature

Title

Western has obtained Office of Management and Budget Clearance Number 1910-5136 for collection of the above information. The APD form must be signed by the appropriate official who is able to attest to the validity of the information submitted and who is authorized to submit the application.

Contracting Process

Western will begin the contracting process with the allottees after publishing the final allocations in the Federal Register, tentatively scheduled for August 2010. Western will offer a prototype contract for power allocated under the Final 2015 Resource Pool Allocations. Allottees will be required to execute a contract within 6 months of the contract offer. Electric service contracts will be effective upon Western's signature, and service will begin on January 1, 2015.

Recordkeeping Requirements

If Western accepts an application and the applicant receives an allocation of Federal power, the applicant must keep all APDs for a period of 3 years after signing a contract for Federal power. There is no recordkeeping requirement for unsuccessful applicants who do not receive an allocation of Federal power.

Authorities

SNR's 2004 Power Marketing Plan, published in the Federal Register (64 FR 34417) on June 25, 1999, was established pursuant to the Department of Energy Organization Act (42 U.S.C. 7101-7352); the Reclamation Act of June 17, 1902 (ch. 1093, 32 Stat. 388) as amended and supplemented by subsequent enactments, particularly section 9(c) of the Reclamation Project Act of 1939 (43 U.S.C. 485(c)); and other acts specifically applicable to the projects involved. This action falls within the Marketing Plan and, thus, is covered by the same authority.

Regulatory Procedure Requirements:

Environmental Compliance

In compliance with the National Environmental Policy Act (NEPA) (42 U.S.C. 4321, et seq.), Council on Environmental Quality NEPA implementing regulations (40 CFR parts 1500-1508), and DOE NEPA implementing regulations (10 CFR part 1021), Western completed an Environmental Impact Statement (EIS) on its Energy Planning and Management Program. The Record of Decision was published in the Federal Register (60 FR 53181, October 12, 1995). Western also completed the 2004 Power Marketing Program EIS (2004 EIS), and the Record of Decision was published in the Federal Register (62 FR 22934, April 28, 1997). The Marketing Plan falls within the range of alternatives considered in the 2004 EIS. This NEPA review identified and analyzed environmental effects related to the Marketing Plan. This action falls within the Marketing Plan and, thus, is covered by the 2004 EIS.

Review Under the Paperwork Reduction Act

In accordance with the Paperwork Reduction Act of 1980 (44 U.S.C. 3501, et seq.), Western has received approval from the Office of Management and Budget for the collection of customer information in this rule, under control number 1910-5136, which expires on September 30, 2011.

Determination Under Executive Order 12866

Western has an exemption from centralized regulatory review under Executive Order 12866; accordingly, no clearance of this Federal Register notice by the Office of Management and Budget is required.

Dated: May 15, 2009.
Timothy J. Meeks,
Administrator.

[FR Doc. E9-12919 Filed 6-2-09; 8:45 am]

BILLING CODE 6450-01-P